DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before February 24, 2014.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations and Variances, 1100 Wilson Boulevard, Room 2350, Arlington, Virginia 22209-3939, Attention: Sheila McConnell, Acting Director, Office of Standards, Regulations and Variances. Persons delivering documents are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2013-055-C.

Petitioner: Signal Peak Energy, 100 Portal Drive, Roundup, Montana 59072.

Mine: Bull Mountain Mine #1, MSHA I.D. No. 24-01950, located in Musselshell County, Montana.

Regulation Affected: 30 CFR 75.1002(a) (Installation of electric equipment and conductors; permissibility).

Modification Request: The petitioner requests a modification of the existing standard to permit the use of nonpermissible electronic testing or diagnostic equipment within 150 feet of pillar workings or longwall faces. The equipment to be used includes laptop computers, oscilloscopes, vibration analysis machines, cable fault detectors, point temperature probes, infrared temperature devices, insulating testers (meggers), voltage current and power measurement devices signal analyzer devices, ultrasonic thickness gauges, electronic component testers, electronic tachometers, total station laser distance meter, 36 volt battery drills, and data collector. Other testing and diagnostic equipment may be used if approved in advance by the District Manager. The petitioner states that:

(1) All other test and diagnostic equipment used within 150 feet of longwall faces and pillar workings will be permissible.

(2) All nonpermissible testing and diagnostic equipment used within 150 feet of longwall faces and pillar workings will be examined, by a qualified person as defined in 30 CFR 75.153, prior to being used to insure the equipment is being maintained in a safe operating condition. The examination results will be recorded in the weekly examination book and will be made available to an authorized representative of the Secretary and the miners at the mine.

(3) A qualified person as defined in 30 CFR 75.151 will continuously monitor for methane immediately before and during use of nonpermissible electronic testing and diagnostic equipment within 150 feet of the longwall faces and pillar workings.

(4) Nonpermissible electronic test and diagnostic equipment will not be used if methane is detected in concentrations at or above 1.0 percent methane. When 1.0 percent or more of methane is detected while the nonpermissible electronic equipment is being used, the equipment will be deenergized immediately, and the nonpermissible electronic equipment will be withdrawn to outby the last open crosscut.

(5) All hand-held methane detectors will be MSHA-approved and maintained in permissible and proper operating condition as defined in 30 CFR 75.320.

(6) Except for time necessary to trouble shoot under actual mining conditions, coal production in the section will cease during use of the nonpermissible equipment. However, coal may remain in or on the equipment to test and diagnose the equipment under “load”.

(7) Nonpermissible electronic testing and diagnostic equipment will not be used to test equipment when float coal dust is in suspension.

(8) All electronic testing and diagnostic equipment will be used in accordance with the manufacturer's recommended safe use procedures.

(9) Qualified personnel engaged in the use of electronic testing and diagnostic equipment will be properly trained to recognize the hazards and limitations associated with the use of electronic testing and diagnostic equipment.

(10) Nonpermissible electronic testing and diagnostic equipment will not be put into service underground until MSHA has initially inspected the equipment.

(11) Within 60 days after the Proposed Decision and Order becomes final, the petitioner will submit proposed revisions for its approved 30 CFR part 48 training plan to the District Manager. The revisions will specify initial and refresher training regarding the terms and conditions in the Proposed Decision and Order.

The petitioner asserts that the proposed alternative method will at all times guarantee no less than the same measure of protection as that afforded by the existing standard.

Docket Number: M-2013-012-M.

Petitioner: Carmeuse Lime & Stone—Luttrell Operation, 486 Clinch Valley Road, Luttrell, Tennessee 37779.

Mine: Chesney Underground Mine, MSHA I.D. No. 40-02113, located in Union County, Tennessee.

Regulation Affected: 30 CFR 57.11052(d) (Refuge areas).

Modification Request: The petitioner requests a modification of the existing standard to use a self-contained refuge chamber providing sufficient packaged water and aviation quality compressed air bottles to last no less than 48 hours for up to 20 miners. The petitioner states that:

(1) The unit contains enough air, water, and nutriments at prescribed levels to sustain occupants for 48 hours. The source of both air and water would not be dependent on exterior air and water lines, which are inherently susceptible to external physical damage and deliver a substandard quality product.

(2) The refuge chamber is constructed of airtight steel and designed to sustain up to 20 miners for a period of no less than 48 hours by provision of fresh air, water, and food. The unit is portable, providing the ability to relocate as necessary during the advancement of mine workings. The unit is equipped with lights, a siren, and a carbon dioxide scrubber. Battery backup power is provided in case of electrical outage, and will provide standby power. The unit will also be provided with a fire extinguisher.

(3) The ability to supply air, water, and reserve power within the refuge chamber itself reduces the susceptibility of the unit to damage from normal mining operations and conditions that may be found in an emergency where the severing of lines may be of concern. To ensure these stored supplies are readily available as needed, daily visual inspections will be performed to ensure that neither exterior damage nor unauthorized entry of the unit has occurred. Detailed monthly inspections will be performed to ensure supplies are within satisfactory expiration periods.

(4) The self-contained properties of the refuge chamber will additionally increase the portability of the unit, providing the flexibility to continuously install the unit closer to working areas of the mine, as appropriate, while maintaining a sanitary environment for its occupants.

(5) The Chesney Mine employs approximately 88 people. The mine produces a high quality, non-gassy limestone that is used in the production of lime via one kiln located on site. Due to the deposit's approximate dip of 35 degrees, a non-traditional room and pillar design is used in which multiple levels are developed in a stepped pattern.

(6) Ordinarily, less than 20 miners are in the workings at any given moment. The operation uses 11 production miners and one supervisor on the day shift, and five production miners and one supervisor on the night shift. Three mechanical/electrical technicians may work in the mine on either shift and four additional managerial employees may be in the mine intermittently on an as needed basis. As the workings are readily accessible via a traversable slope and portal, the facility has not located office or maintenance shops underground. There is no established access to potable water or compressed air in the mine

(7) The mine is naturally ventilated, and has no significant history of gas liberation. A 13-foot diameter airshaft and fan located atop the eastern portion of the mine, aid ventilation and is capable of exhausting approximately 160,000 cubic feet per minute. An assortment of auxiliary fans is used underground for localized air control. The mine also has a history of stable roof conditions and, while not required, installs 8-foot grouted roof bolts in a 5×5 foot pattern as part of the regular mining cycle.

(8) A water source delivered in any form of conduit of pipeline has the potential to be damaged in a geologic event or equipment activity. As pipes age, contamination is possible and stagnated water has the potential to deliver bacterial agents to the recipient. Air from the surface would require a compressor to deliver air to the chamber at an elevated pressure. Air from a compressor may be laden with water vapor and lubricants that may reduce its purity. An underground refuge chamber will be fitted with compressed air and sealed water provides remediation to both of these problems.

(9) Training on proper use of the refuge chamber will be provided for all affected personnel annually and additionally upon any relocation of the chamber.

The petitioner asserts that the proposed alternative method will at all times guarantee no less than the same measure or protection afforded by the existing standard.

Dated: January 17, 2014.
Patricia W. Silvey,
Certifying Officer.

[FR Doc. 2014-01391 Filed 1-23-14; 8:45 am]

BILLING CODE 4510-43-P